DEPARTMENT OF COMMERCE

International Trade Administration

[A-428-849]

Common Alloy Aluminum Sheet From Germany: Final Results of Changed Circumstances Review and Revocation of the Antidumping Duty Order, in Part

AGENCY: Enforcement and Compliance, International Trade Administration, Department of Commerce.

SUMMARY: The U.S. Department of Commerce (Commerce) is revoking, in part, the antidumping duty (AD) order on common alloy aluminum sheet (CAAS) from Germany with respect to certain lithographic-grade aluminum sheet.

DATES: Applicable April 17, 2024.

FOR FURTHER INFORMATION CONTACT: Stephanie Trejo, AD/CVD Operations, Office IV, Enforcement and Compliance, International Trade Administration, U.S. Department of Commerce, 1401 Constitution Avenue NW, Washington, DC 20230; telephone: (202) 482-4390.

SUPPLEMENTARY INFORMATION:

Background

On April 27, 2021, Commerce published the AD order on common alloy aluminum sheet from Germany in the Federal Register.¹ On May 9, 2023, Eastman Kodak Company (Kodak), a U.S. importer of subject merchandise, requested that Commerce conduct a changed circumstances review (CCR), and revoke, in part, the CAAS AD Germany Order with respect to certain lithographic-grade aluminum sheet pursuant to section 751(b)(1) of the Tariff Act of 1930, as amended (the Act), and 19 CFR 351.216(b).²

¹ See Common Alloy Aluminum Sheet from Bahrain, Brazil, Croatia, Egypt, Germany, India, Indonesia, Italy, Oman, Romania, Serbia, Slovenia, South Africa, Spain, Taiwan, and the Republic of Turkey: Antidumping Duty Orders. 86 FR 22139, (April 27, 2021) (CAAS AD Germany Order or Order).

² See Kodak's Letter, “Request for Expedited Changed Circumstances Review,” dated May 9, 2023 (CCR Request).

After initiating the requested CCR,³ Commerce preliminarily determined to revoke the CAAS AD Germany Order, in part, with respect to certain lithographic-grade aluminum sheet, pursuant to section 751(b)(1) of the Act and 19 CFR 351.216(b).⁴ Commerce invited interested parties to comment on the Preliminary Results.⁵ On February 20, 2024, Commerce received comments from Kodak and the Aluminum Association Common Alloy Aluminum Sheet Trade Enforcement Working Group and its individual members (Aluminum Association).⁶ On February 26, 2024, Kodak responded to the Aluminum Association's comments.⁷

³ See Common Alloy Aluminum Sheet from Germany: Notice of Initiation of Changed Circumstances Review, and Consideration of Revocation, in Part, of the Antidumping Duty Order, 88 FR 49446 (July 31, 2023) (Initiation Notice).

⁴ See Common Alloy Aluminum Sheet from Germany: Preliminary Results of Changed Circumstances Review, and Intent To Revoke the Antidumping Duty Order, in Part, 89 FR 7686 (February 5, 2024) (Preliminary Results).

⁵ Id. 89 FR at 7686.

⁶ See Kodak's Letter, “Case Brief and Request to Expedite Final Results,” dated February 20, 2024 (Kodak's Comments); see also Aluminum Association's Letter, “Petitioners' Comments on the Department's Preliminary Results of Changed Circumstances Review,” dated February 20, 2024 (Petitioners' Comments).

⁷ See Kodak's Letter, “Letter in Lieu of Rebuttal Comments,” dated February 26, 2024.

Final Results of Changed Circumstances Review and Revocation of the CAAS AD Germany Order, in Part

In their comments, Kodak and the Aluminum Association agreed with, and supported, Commerce's Preliminary Results.⁸ Kodak also requested that Commerce issue the final results of this CCR on an expedited basis (i.e., within 45 days of publication of the Preliminary Results in the Federal Register) pursuant to 19 CFR 351.216(e). However, the 45-day timeline described in 19 CFR 351.216(e) starts on the date that Commerce initiated the CCR, not on the date that it published the Preliminary Results of the CCR in the Federal Register. Thus, Kodak has misapplied that deadline. Moreover, in the Preliminary Results, Commerce explicitly stated that it would “issue the final results of this CCR, which will include its analysis of any written comments, no later than 270 days after the date on which this review was initiated.” ⁹

⁸ See Kodak's Comments; see also Petitioners' Comments.

⁹ See Preliminary Results, 89 FR at 7689.

Because no party submitted comments opposing the Preliminary Results of this CCR, and the record contains no other information or evidence that calls into question the Preliminary Results, Commerce determines, pursuant to sections 751(d)(1) and 782(h) of the Act, and 19 CFR 351.222(g), that there are changed circumstances that warrant revocation of the CAAS AD Germany Order, in part, with respect to certain lithographic-grade aluminum sheet. Consequently, there is no decision memorandum accompanying this notice.

Specifically, because producers accounting for substantially all of the production of the domestic like product to which the CAAS AD Germany Order pertains have not expressed interest in maintaining the relief provided by the CAAS AD Germany Order with respect to certain lithographic-grade aluminum sheet, as described below, Commerce is revoking the CAAS AD Germany Order, in part, with respect to the following product:

Lithographic-grade aluminum sheet that meets the following criteria: (i) a Copper (Cu) content of no more than 0.01 percent, a Zinc (Zn) content of ≤0.05%, a Silicon (Si) content of 0.05%-0.20% and an Iron (Fe) content of 0.30%-0.50%; (ii) a thickness between 0.267 mm-0.3705 mm, (iii) a width of 500 mm-1650 mm, (iv) a maximum wave height of no more than 3.0 mm, (v) a tensile strength of 130 MPa or more (after baking), and (vi) a surface roughness less than or equal to Ra 0.26 µm.

The revised scope for the CAAS AD Germany Order is below.

Scope of the Order

The products covered by the Order are common alloy aluminum sheet, which is a flat-rolled aluminum product having a thickness of 6.3 mm or less, but greater than 0.2 mm, in coils or cut-to-length, regardless of width. Common alloy sheet within the scope of the Order includes both not clad aluminum sheet, as well as multi-alloy, clad aluminum sheet. With respect to not clad aluminum sheet, common alloy sheet is manufactured from a 1XXX-, 3XXX-, or 5XXX-series alloy as designated by the Aluminum Association. With respect to multi-alloy, clad aluminum sheet, common alloy sheet is produced from a 3XXX-series core, to which cladding layers are applied to either one or both sides of the core. The use of a proprietary alloy or non-proprietary alloy that is not specifically registered by the Aluminum Association as a discrete 1XXX-, 3XXX-, or 5XXX-series alloy, but that otherwise has a chemistry that is consistent with these designations, does not remove an otherwise in-scope product from the scope.

Common alloy sheet may be made to ASTM specification B209-14 but can also be made to other specifications. Regardless of specification, however, all common alloy sheet meeting the scope description is included in the scope. Subject merchandise includes common alloy sheet that has been further processed in a third country, including but not limited to annealing, tempering, painting, varnishing, trimming, cutting, punching, and/or slitting, or any other processing that would not otherwise remove the merchandise from the scope of the Order if performed in the country of manufacture of the common alloy sheet.

Excluded from the scope of the Order is aluminum can stock, which is suitable for use in the manufacture of aluminum beverage cans, lids of such cans, or tabs used to open such cans. Aluminum can stock is produced to gauges that range from 0.200 mm to 0.292 mm, and has an H-19, H-41, H-48, H-39, or H-391 temper. In addition, aluminum can stock has a lubricant applied to the flat surfaces of the can stock to facilitate its movement through machines used in the manufacture of beverage cans. Aluminum can stock is properly classified under Harmonized Tariff Schedule of the United States (HTSUS) subheadings 7606.12.3045 and 7606.12.3055.

Also excluded from the scope of the Order is lithographic-grade aluminum sheet that meets the following criteria: (i) a Copper (Cu) content of no more than 0.01 percent, a Zinc (Zn) content of ≤0.05%, a Silicon (Si) content of 0.05%-0.20% and an Iron (Fe) content of 0.30%-0.50%; (ii) a thickness between 0.267 mm-0.3705 mm, (iii) a width of 500 mm-1650 mm, (iv) a maximum wave height of no more than 3.0 mm, (v) a tensile strength of 130 MPa or more (after baking), and (vi) a surface roughness less than or equal to Ra 0.26 µm.

Where the nominal and actual measurements vary, a product is within the scope if application of either the nominal or actual measurement would place it within the scope based on the definitions set for the above.

Common alloy sheet is currently classifiable under HTSUS subheadings 7606.11.3060, 7606.11.6000, 7606.12.3096, 7606.12.6000, 7606.91.3095, 7606.91.6095, 7606.92.3035, and 7606.92.6095. Further, merchandise that falls within the scope of the Order may also be entered into the United States under HTSUS subheadings 7606.11.3030, 7606.12.3015, 7606.12.3025, 7606.12.3035, 7606.12.3091, 7606.91.3055, 7606.91.6055, 7606.92.3025, 7606.92.6055, 7607.11.9090. Although the HTSUS subheadings are provided for convenience and customs purposes, the written description of the scope of the Order is dispositive.

Application of the Final Results of Review

Section 751(d)(3) of the Act provides that “{a} determination under this section to revoke an order . . . shall apply with respect to unliquidated entries of the subject merchandise which are entered, or withdrawn from warehouse, for consumption on or after the date determined by the administering authority.” Commerce's general practice is to instruct U.S. Customs and Border Protection (CBP) to liquidate without regard to antidumping or countervailing duties, and to refund any estimated antidumping or countervailing duties on, all unliquidated entries of the merchandise covered by a revocation that are not covered by the final results of an administrative review or automatic liquidation.¹⁰ Consistent with this practice, we are applying the final results of this CCR to all unliquidated entries of the merchandise covered by the revocation which have been entered, or withdrawn from warehouse, for consumption on or after April 1, 2023.¹¹

¹⁰ See e.g., Certain Pasta from Italy: Final Results of Countervailing Duty Changed Circumstances Review and Revocation, In Part, 76 FR 27634 (May 12, 2011); Stainless Steel Bar from the United Kingdom: Notice of Final Results of Changed Circumstances Review and Revocation of Order, in Part, 72 FR 65706 (November 23, 2007); Notice of Final Results of Antidumping Duty Changed Circumstances Review and Revocation of Order In Part: Certain Corrosion-Resistant Carbon Steel Flat Products from Germany, 71 FR 66163 (November 13, 2006); Notice of Final Results of Antidumping Duty Changed Circumstances Reviews and Revocation of Orders in Part: Certain Corrosion-Resistant Carbon Steel Flat Products from Canada and Germany, 71 FR 14498 (March 22, 2006); Notice of Final Results of Antidumping Duty Changed Circumstances Review, and Determination to Revoke Order in Part: Certain Cased Pencils from the People's Republic of China, 68 FR 62428 (November 4, 2003).

¹¹ Commerce issued the final results of the administrative review of the CAAS AD Germany Order covering the period October 15, 2020 through March 31, 2022 on November 3, 2023. See Common Alloy Aluminum Sheet from Germany: Final Results of Antidumping Duty Administrative Review; 2020-2022, 88 FR 77556 (November 13, 2023). Commerce issued the automatic liquidation instruction for the administrative review of the CAAS AD Germany Order covering the period April 1, 2022 through March 31, 2023 on July 21, 2023. See CBP Message 3202416, “Automatic Liquidation Instructions,” dated July 21, 2023.

Instructions to CBP

Because we determine that there are changed circumstances that warrant the revocation of the CAAS AD Germany Order, in part, we will instruct CBP to liquidate without regard to antidumping duties, and to refund any estimated antidumping duties on, all unliquidated entries of the merchandise covered by this partial revocation which have been entered, or withdrawn from warehouse, for consumption on or after April 1, 2023.

Commerce intends to issue instructions to CBP no earlier than 35 days after the date of publication of these final results of CCR in the Federal Register. If a timely summons is filed at the U.S. Court of International Trade, the instructions will direct CBP not to liquidate relevant entries until the time for parties to file a request for a statutory injunction has expired (i.e., within 90 days of publication).

Administrative Protective Order

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these final results of CCR in accordance with sections 751(b) and 777(i) of the Act, and 19 CFR 351.216, 19 CFR 351.221(c)(3), and 19 CFR 351.222.

Dated: April 10, 2024.
Ryan Majerus,
Deputy Assistant Secretary for Policy and Negotiations, performing the non-exclusive functions and duties of the Assistant Secretary for Enforcement and Compliance.

[FR Doc. 2024-08125 Filed 4-16-24; 8:45 am]

BILLING CODE 3510-DS-P